DEPARTMENT OF COMMERCE

National Oceanic and Atmospheric Administration

RIN 0648-XE207

Fisheries of the South Atlantic; South Atlantic Fishery Management Council (SAFMC); Public Meeting

AGENCY: National Marine Fisheries Service (NMFS), National Oceanic and Atmospheric Administration (NOAA), Commerce.

ACTION: Notice of a public meeting.

SUMMARY: The South Atlantic Fishery Management Council (Council) will hold a Visioning Workshop in Charleston, SC.

DATES: The Workshop will be held 8:30 a.m. to 5 p.m., Wednesday, October 14, 2015; and 8:30 a.m. to 5 p.m., Thursday, October 15, 2015. Public comment will be held at 4:30 p.m., Wednesday, October 14, 2015; and at 1:30 p.m., Thursday October 15, 2015.

ADDRESSES:

Meeting address: Town & Country Inn, 2008 Savannah Highway, Charleston, SC 29507; phone: (843) 571-1000.

Council address: South Atlantic Fishery Management Council, 4055 Faber Place Drive, Suite 201, N. Charleston, SC 29405.

FOR FURTHER INFORMATION CONTACT: Kim Iverson, Public Information Officer, 4055 Faber Place Drive, Suite 201, North Charleston, SC 29405; phone: (843) 571-4366 or toll free (866) SAFMC-10; fax: (843) 769-4520; email: kim.iverson@safmc.net.

SUPPLEMENTARY INFORMATION: This workshop is being held for Council members to discuss the further development of a Vision Blueprint (long-term strategic plan) for the South Atlantic snapper grouper fishery. The outcome of the workshop will consist of a Vision Blueprint document outlining strategic goals, objectives, and strategies for managing the snapper grouper fishery going forward. The document will be provided to the Council at the December 2015 Council meeting and is scheduled for approval. Additionally, the Council will discuss an implementation and evaluation plan for periodic review of the Vision Blueprint. Topics of discussion include:

1. Final review and discussion of 2015 public input on the draft Vision Blueprint.

2. Breakout Group Discussion to prioritize short-, mid-, and long-term strategies to be considered under each of the four focus areas (Science, Management, Communication, and Governance) to include:

a. Sub-regional Management

b. Reporting/Data Collection

c. Reducing Discards

d. Access to the Fishery

e. Stakeholder Engagement

f. Habitat/Ecosystems

g. Allocation

3. Plenary session to summarize breakout group discussions, and

4. Facilitated discussion for developing an evaluation plan for periodic review of the Vision Blueprint.

Special Accommodations

This meeting is accessible to people with disabilities. Requests for auxiliary aids should be directed to the SAFMC office (see ADDRESSES) at least 5 business days prior to the meeting.

Note: The times and sequence specified in this agenda are subject to change.

Authority: 16 U.S.C. 1801 et seq.

Dated: September 22, 2015.
Tracey L. Thompson,
Acting Deputy Director, Office of Sustainable Fisheries, National Marine Fisheries Service.

[FR Doc. 2015-24435 Filed 9-24-15; 8:45 am]

BILLING CODE 3510-22-P